DEPARTMENT OF DEFENSE

Office of the Secretary

[Docket ID DoD-2020-OS-0023]

Privacy Act of 1974; System of Records

AGENCY: Office of the Secretary, Department of Defense (DoD).

ACTION: Rescindment of a System of Records Notice (SORN).

SUMMARY: The Office of the Secretary of Defense (OSD), is rescinding a System of Records titled, the Defense Travel Management Office (DTMO) Workforce Assessment, DHRA 13 DoD.

DATES: The System of Records rescindment is effective upon publication. The DTMO system was decommissioned on December 28, 2017 and the records retention schedules for these records have been met since no records were ever input to date. The DTMO Workforce Assessment is no longer in use and is considered deactivated.

FOR FURTHER INFORMATION CONTACT: Ms. Luz D. Ortiz, Chief, Records, Privacy and Declassification Division (RPDD), 1155 Pentagon, Washington, DC 20311-1155 or by phone at (571) 372-0478.

SUPPLEMENTARY INFORMATION: The DTMO never performed an internal workforce assessment and no records were ever placed in this system. Because no assessments were conducted by DTMO, the DTMO Workforce SORN is not required; therefore, the SORN can be rescinded.

The OSD notices for Systems of Records subject to the Privacy Act of 1974 (5 U.S.C. 552a), as amended, have been published in the Federal Register and are available from the address in FOR FURTHER INFORMATION CONTACT or at the Defense Privacy, Civil Liberties and Transparency Division website at https://dpcld.defense.gov.

The proposed system reports, as required by the Privacy Act of 1974, as amended, were submitted on December 6, 2020, to the House Committee on Oversight and Reform, the Senate Committee on Homeland Security and Governmental Affairs, and the Office of Management and Budget (OMB) pursuant to Section 6 of OMB Circular No. A-108, “Federal Agency Responsibilities for Review, Reporting, and Publication under the Privacy Act,” revised December 23, 2016 (December 23, 2016, 81 FR 94424).

SYSTEM NAME AND NUMBER:

Defense Travel Management Office (DTMO) Workforce Assessment, DHRA 13 DoD.

HISTORY:

June 11, 2014, 79 FR 33528.

Dated: February 21, 2020.
Aaron T. Siegel,
Alternate OSD Federal Register Liaison Officer, Department of Defense.

[FR Doc. 2020-03926 Filed 2-26-20; 8:45 am]

BILLING CODE 5001-06-P